DEPARTMENT OF ENERGY

Federal Energy Regulatory Commission

Combined Notice of Filings #2

Take notice that the Commission received the following exempt wholesale generator filings:

Docket Numbers: EG12-37-000.

Applicants: Atlantic Power (Coastal Rivers) Corporation.

Description: Notice of Self Certification of Exempt Wholesale Generator Status of Atlantic Power (Coastal Rivers) Corporation.

Filed Date: 3/6/12.

Accession Number: 20120306-5146.

Comments Due: 5 p.m. ET 3/27/12.

Docket Numbers: EG12-38-000.

Applicants: Atlantic Power (Williams Lake) Ltd.

Description: Notice of Self Certification of Exempt Wholesale Generator Status of Atlantic Power (Williams Lake) Ltd.

Filed Date: 3/6/12.

Accession Number: 20120306-5147.

Comments Due: 5 p.m. ET 3/27/12.

Docket Numbers: EG12-39-000.

Applicants: Atlantic Power Preferred Equity, Ltd.

Description: Notice of Self Certification of Exempt Wholesale Generator Status of Atlantic Power Preferred Equity, Ltd.

Filed Date: 3/6/12.

Accession Number: 20120306-5164.

Comments Due: 5 p.m. ET 3/27/12.

Docket Numbers: EG12-40-000.

Applicants: Atlantic Power Limited Partnership.

Description: Notice of Self Certification of Exempt Wholesale Generator Status of Atlantic Power Limited Partnership.

Filed Date: 3/6/12.

Accession Number: 20120306-5169.

Comments Due: 5 p.m. ET 3/27/12.

Take notice that the Commission received the following electric rate filings:

Docket Numbers: ER10-2074-001; ER10-2097-003.

Applicants: Kansas City Power & Light Company, KCP&L Greater Missouri Operations Company.

Description: Supplement to Change-in-Status Filing of Kansas City Power & Light Company and KCP&L Greater Missouri Operations Company.

Filed Date: 1/20/12.

Accession Number: 20120120-5080.

Comments Due: 5 p.m. ET 3/27/12.

Docket Numbers: ER12-669-004.

Applicants: Trans Bay Cable LLC.

Description: Transmission Owner Tariff—Compliance Filing to be effective 1/1/2012.

Filed Date: 3/6/12

Accession Number: 20120306-5128.

Comments Due: 5 p.m. ET 3/27/12.

Docket Numbers: ER12-839-000.

Applicants: Entergy Rhode Island State Energy, L.P.

Description: Supplemental information of Entergy Rhode Island State Energy, L.P.

Filed Date: 2/29/12.

Accession Number: 20120229-5176.

Comments Due: 5 p.m. ET 3/21/12.

Docket Numbers: ER12-1205-000.

Applicants: Pacific Gas and Electric Company.

Description: Notice of Termination of the Guernsey E&P Agreement to be effective 3/1/2012.

Filed Date: 3/6/12.

Accession Number: 20120306-5001.

Comments Due: 5 p.m. ET 3/27/12.

Docket Numbers: ER12-1206-000.

Applicants: PJM Interconnection, L.L.C.

Description: Revisions to the PJM OA Schedule 12 to remove Grunwald Fund, LP as a PJM Member to be effective 12/22/2011.

Filed Date: 3/6/12.

Accession Number: 20120306-5050.

Comments Due: 5 p.m. ET 3/27/12.

Docket Numbers: ER12-1207-000.

Applicants: PJM Interconnection, L.L.C.

Description: Original Service Agreement No. 3236; Queue No. W4-064 to be effective 2/9/2012.

Filed Date: 3/6/12.

Accession Number: 20120306-5069.

Comments Due: 5 p.m. ET 3/27/12.

Docket Numbers: ER12-1208-000.

Applicants: PJM Interconnection, L.L.C.

Description: Original Service Agreement No. 3251; Queue Nos. W3-025 & X1-077 to be effective 2/14/2012.

Filed Date: 3/6/12.

Accession Number: 20120306-5071.

Comments Due: 5 p.m. ET 3/27/12.

Docket Numbers: ER12-1209-000.

Applicants: New York Independent System Operator, Inc.

Description: NYISO Amendment to Correct Tariff Base FID 165 to be effective 6/23/2011.

Filed Date: 3/6/12.

Accession Number: 20120306-5072.

Comments Due: 5 p.m. ET 3/27/12.

Docket Numbers: ER12-1210-000.

Applicants: New York Independent System Operator, Inc.

Description: NYISO Amendment to Correct Tariff Base from FID 169 to be effective 6/30/2011.

Filed Date: 3/6/12.

Accession Number: 20120306-5073.

Comments Due: 5 p.m. ET 3/27/12.

Docket Numbers: ER12-1211-000.

Applicants: New York Independent System Operator, Inc.

Description: NYISO Amendment to Correct Tariff Base From FID 201 to be effective 12/4/2011.

Filed Date: 3/6/12.

Accession Number: 20120306-5117.

Comments Due: 5 p.m. ET 3/27/12.

Docket Numbers: ER12-1212-000.

Applicants: PacifiCorp.

Description: Cancellation of Alpental Blue Mountain E&P Agreement to be effective 5/6/2012.

Filed Date: 3/6/12

Accession Number: 20120306-5120.

Comments Due: 5 p.m. ET 3/27/12.

Docket Numbers: ER12-1213-000.

Applicants: PJM Interconnection, L.L.C.

Description: Original Service Agreement No. 3237; Queue No. W4-093 to be effective 2/9/2012.

Filed Date: 3/6/12.

Accession Number: 20120306-5148.

Comments Due: 5 p.m. ET 3/27/12.

Docket Numbers: ER12-1214-000.

Applicants: PJM Interconnection, L.L.C.

Description: Original Service Agreement No. 3254; Queue No. W4-065 to be effective 2/14/2012.

Filed Date: 3/6/12.

Accession Number: 20120306-5154.

Comments Due: 5 p.m. ET 3/27/12.

Docket Numbers: ER12-1215-000.

Applicants: New York Independent System Operator, Inc.

Description: NYISO 205 Filing re: DAMAP and Request for Waiver to be effective 3/7/2012.

Filed Date: 3/6/12.

Accession Number: 20120306-5155.

Comments Due: 5 p.m. ET 3/27/12.

Docket Numbers: ER12-1216-000.

Applicants: PJM Interconnection, L.L.C.

Description: Original Service Agreement No. 3255; Queue No. W4-073 to be effective 2/14/2012.

Filed Date: 3/6/12.

Accession Number: 20120306-5165.

Comments Due: 5 p.m. ET 3/27/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 06, 2012.
Nathaniel J. Davis, Sr.,
Deputy Secretary.

[FR Doc. 2012-5900 Filed 3-9-12; 8:45 am]

BILLING CODE 6717-01-P